DEPARTMENT OF TRANSPORTATION

Federal Aviation Administration

14 CFR Parts 21, 43, 45, 65, 91, 142, 145, 161, and 170

[Docket No. 28154, Amdt. Nos. 21-79, 43-37, 45-22, 65-41, 91-267, 142-4, 145-25, 161-2 and 170-3]

Commuter Operations and General Certification and Operations Requirements

AGENCY: Federal Aviation Administration, DOT.

ACTION: Final rule; technical amendment.

SUMMARY: The Federal Aviation Administration (FAA) is making minor technical changes to a final rule on commuter operations and general certification and operations requirements published in the Federal Register on December 20, 1995, effective January 19, 1996. That final rule removed part 127 of title 14, but did not make conforming amendments to remove all references to part 127. This technical amendment removes all references to part 127 from the Code of Federal Regulations. None of these changes are substantive in nature and the rule will not impose any additional burden or restriction on persons or organizations affected by these regulations.

EFFECTIVE DATE: Effective on April 27, 2001.

FOR FURTHER INFORMATION CONTACT: Alberta Brown, (202) 267-8321; Federal Aviation Administration, 800 Independence Avenue, SW., Washington, DC 20591.

SUPPLEMENTARY INFORMATION:

Background

The Federal Aviation Administration (we) published in the Federal Register on December 20, 1995 (60 FR 65832) a document that amended the regulations on commuter operations and general certification and operations requirements, to include the removal of part 127 from title 14 (60 FR 65937). We did not include amendments removing all references to part 127, which are now obsolete. This document makes the appropriate technical changes to remove all references to part 127 from the Code of Federal Regulations.

Under the Administrative Procedure Act, an agency doesn't have to issue a notice of proposed rulemaking when the agency for good cause finds that notice and public procedure are “impracticable, unnecessary, or contrary to the public interest.” See 5 U.S.C. 553(b). Because this technical amendment simply corrects obsolete references, we find that publishing the change for public notice and comment is unnecessary.

The Administrative Procedure Act also states that an agency must publish a substantive rule not less than 30 days before its effective date, except as otherwise provided by the agency for good cause. See 5 U.S.C. 553(d). We find that this technical amendment imposes no additional burden or requirement on the regulated industry, and is not substantive in nature. Moreover, we find that there is good cause to make the changes effective immediately upon publication in the Federal Register. It is in the public interest to remove these obsolete references from our regulations without further delay.

This regulation is editorial in nature and imposes no additional burden on any person or organization. Accordingly, we have determined that the action: (1) is not a significant rule under Executive Order 12866; and (2) is not a significant rule under Department of Transportation Regulatory Policy and Procedures. No impact is expected to result, and a full regulatory evaluation is not required. In addition, the FAA certifies that the rule will not have a significant economic impact, positive or negative, on a substantial number of small entities under the criteria of the Regulatory Flexibility Act.

List of Subjects

14 CFR Part 21

Aircraft, Aviation safety, Exports, Imports, Reporting and recordkeeping requirements.

14 CFR Part 43

Aircraft, Aviation safety, Reporting and recordkeeping requirements.

14 CFR Part 45

Aircraft, Exports, Signs and symbols.

14 CFR Part 65

Air traffic controllers, Aircraft, Airmen, Airports, Alcohol abuse, Drug abuse, Reporting and recordkeeping requirements.

14 CFR Part 91

Afghanistan, Agriculture, Air traffic control, Aircraft, Airmen, Airports, Aviation safety, Canada, Cuba, Freight, Mexico, Noise control, Political candidates, Reporting and recordkeeping requirements, Former Yugoslavia.

14 CFR Part 142

Administrative practice and procedure, Airmen, Educational facilities, Reporting and recordkeeping requirements, Schools, Teachers.

14 CFR Part 145

Aircraft, Aviation safety, Reporting and recordkeeping requirements.

14 CFR Part 161

Administrative practice and procedure, Aircraft, Airports, Noise control, Reporting and recordkeeping requirements.

14 CFR Part 170

Air traffic control, Airports.

In consideration of the foregoing, the Federal Aviation Administration amends parts 21, 43, 45, 65, 91, 142, 145, 161, and 170 of title 14 of the Code of Federal Regulations as follows:

PART 21—CERTIFICATION PROCEDURES FOR PRODUCTS AND PARTS

1. The authority citation for part 21 continues to read as follows:

Authority: 42 U.S.C. 7572; 49 U.S.C. 106(g), 40105, 40113, 44701-44702, 44707, 44709, 44711, 44713, 44715, 45303.

§ 21.183 Issue of standard airworthiness certificates for normal, utility, acrobatic, commuter, and transport category aircraft; manned free balloons; and special classes of aircraft. [Amended]

2. Amend § 21.183 by removing the words “or 127” from paragraph (d)(2)(iv).

§ 21.197 Special flight permits.

3. Amend § 21.197 by removing the words “§§ 121.79, 127.27, and 135.17” from paragraph (c) introductory text and replacing them with “§§ 121.79 and 135.17”; and by removing the words “or Part 127” from paragraph (c)(1).

§ 21.213 Eligibility.

4. Amend § 21.213 by removing the works “or Part 127” from paragraph (b).

§ 21.329 Issue of export certificates of airworthiness for Class I products.

5. Amend § 21.329 by removing the words “or 127” from paragraph (c).

§ 21.337 Performance of inspections and overhauls.

6. Amend § 21.337 by removing the words “or 127” from paragraph (e).

PART 43—MAINTENANCE, PREVENTIVE MAINTENANCE, REBUILDING, AND ALTERATION

7. The authority citation for part 43 continues to read as follows:

Authority: 49 U.S.C. 106(g), 40113, 44701, 44703, 44705, 44707, 44711, 44713, 44717.

§ 43.1 Applicability.

8. Amend § 43.1 by removing the words “Part 121, 127, or 135” from paragraph (a)(2) and adding in their place the words “Part 121 or 135”.

§ 43.3 Persons authorized to perform maintenance, preventive maintenance, rebuilding, and alterations.

9. Amend § 43.3 as follows:

a. In paragraph (f) remove the words “Part 121, 127, or 135” both places they appear and add in their place the words “Part 121 or 135”.

b. In paragraph (g) remove the words “Part 121, 127, 129, or 135” and add in their place the words “Part 121, 129, or 135”.

§ 43.7 Persons authorized to approve aircraft, airframes, aircraft engines, propellers, appliances, or component parts for return to service after maintenance, preventive maintenance, rebuilding, or alteration.

10. Amend § 43.7 by removing the words “Part 121, 127, or 135” from paragraph (e) both places they appear and adding in their place the words “Part 121 or 135”.

§ 43.9 Content, form, and disposition of maintenance, preventive maintenance, rebuilding, and alteration records (except inspections performed in accordance with part 91, part 123, part 125, § 135.411(a)(1), and § 135.419 of this chapter).

11. Amend § 43.9 by removing the words “Part 121, 127, or 135” from paragraph (b) both places they appear and adding in their place the words “Part 121 or 135”.

§ 43.13 Performance rules (general).

12. Amend § 43.13 by removing the words “Part 121, 127, or 135” from paragraph (c) both places they appear and adding in their place the words “Part 121 or 135”.

§ 43.16 Airworthiness Limitations.

13. Amend § 43.16 by removing the words “Parts 121, 123, 127, or 135” and adding in their place the words “Parts 121, 123, or 135”.

PART 45—IDENTIFICATION AND REGISTRATION MARKING

14. The authority citation for part 45 continues to read as follows:

Authority: 49 U.S.C. 106(g), 40103, 40109, 40113-40114, 44101-44105, 44107-44108, 44110-44111, 44504, 44701, 44708-44709, 44711-44713, 45302-45303, 46104, 46304, 46306, 47122.

§ 45.22 Exhibition, antique, and other aircraft: Special rules.

15. Amend § 45.22 by removing the words “Part 121, 127, 133, 135, or 137” from paragraph (c)(3) and adding in their place the words “Part 121, 133, 135, or 137”.

PART 65—CERTIFICATION: AIRMEN OTHER THAN FLIGHT CREWMEMBERS

16. The authority citation for part 65 continues to read as follows:

Authority: 49 U.S.C. 106(g), 40113, 44701-44703, 44707, 44709-44711, 45102-45103, 45301-45302.

§ 65.95 Inspection authorization: Privileges and limitations.

17. Amend § 65.95 by removing the words “or 127” from paragraph (a)(1).

PART 91—GENERAL OPERATING AND FLIGHT RULES

18. The authority citation for part 91 continues to read as follows:

Authority: 49 U.S.C. 106(g), 1155, 40103, 40113, 40120, 44101, 44111, 44701, 44709, 44711, 44712, 44715, 44716, 44717, 44722, 46306, 46315, 46316, 46504, 46506-46507, 47122, 47508, 47528-47531, articles 12 and 29 of the Convention on International Civil Aviation (61 stat. 1180).

§ 91.23 Truth-in-leasing clause requirement in leases and conditional sales contracts.

19. Amend § 91.23 by removing the words “part 121, 125, 127, 135, or 141” from paragraph (b)(1)(i) and adding in their place the words “part 121, 125, 135, or 141”.

§ 91.175 Takeoff and landing under IFR.

20. Amend § 91.175 by removing the words “parts 121, 125, 127, 129, or 135” from paragraph (f) and adding in their place the words “parts 121, 125, 129, or 135”.

§ 91.215 ATC transponder and altitude reporting equipment and use.

21. Amend § 91.215 by removing the words “part 121, 127 or 135” from paragraph (a) and adding in their place the words “part 121 or 135”.

§ 91.401 Applicability.

22. Amend § 91.401 by removing the words “part 121, 127, 129, or § 135.411(a)(2) “from paragraph (b) and adding in their place the words “part 121, 129, or § 135.411(a)(2).”

§ 91.403 General.

23. Amend § 91.403 by removing the words “part 121, 127 or 135” from paragraph (c) and adding in their place the words “part 121 or 135”.

§ 91.409 Inspections.

24. Amend § 91.409 as follows:

a. In paragraph (c)(2) remove the words “part 125, 127, or 135” and add in their place the words “part 125 or 135”.

b. In paragraph (f)(1) remove the words “part 121, 127, or 135” and add in their place the words “part 121 or 135”.

§ 91.413 ATC transponder tests and inspections.

25. Amend § 91.413 as follows:

a. In paragraph (a) remove the words “in 91.215(a), 121.345(c), 127.123(b), or § 135.143(c)” and add in their place the words “in 91.215(a), 121.345(c), or § 135.143(c)”.

b. In paragraph (c)(2) remove the words “part 121, 127 or § 135.411(a)(2)” and add in their place the words “part 121 or § 135.411(a)(2).”

PART 142—TRAINING CENTERS

26. The authority citation for part 142 continues to read as follows:

Authority: 49 U.S.C. 106(g), 40113, 40119, 44101, 44701-44703, 44705, 44707, 44709-44711, 45102-45103, 45301-45302.

§ 142.1 Applicability.

27. Amend § 142.1 as follows:

a. In paragraph (a) remove the words “parts 61, 63, 121, 125, 127, 135, or 137” and add in their place the words “parts 61, 63, 121, 125, 135, or 137”.

b. In paragraph (b)(1) remove the words “parts 63, 121, 125, 127, 135, and 137” and add in their place the words “parts 63, 121, 125, 135, and 137”.

PART 145—REPAIR STATIONS

28. The authority citation for part 145 continues to read as follows:

Authority: 49 U.S.C. 106(g), 40113, 44701-44702, 44707, 44717.

§ 145.2 Performance of maintenance, preventive maintenance, alterations and required inspections for an air carrier or commercial operator under the continuous airworthiness requirements of parts 121 and 127, and for airplanes under the inspection program required by part 125.

29. Amend § 145.2 as follows:

a. In the section heading remove the words “parts 121 and 127” and add in their place the words “part 121”.

b. In paragraph (a) remove the words “or part 127”; and remove the words “or subpart I of part 127 (except §§ 127.131, 127.134, 127.136, and 127.140)”.

§ 145.63 Reports to defects or unairworthy conditions.

30. Amend § 145.63(c) by removing the words “part 121, 127, or 135” and adding in their place the words “part 121 or 135”; and by removing the words “under § 21.3, § 37.17, § 121.703, § 127.313, or § 135.57” and adding in their place the words “under § 21.3, § 37.17, § 121.703, or § 135.57”.

PART 161—NOTICE AND APPROVAL OF AIRPORT NOISE AND ACCESS RESTRICTIONS

31. The authority citation for part 161 continues to read as follows:

Authority: 49 U.S.C. 106(g), 47523-47527, 47533.

§ 161.5 Definitions.

32. Amend § 161.5 by removing the words “under parts 127 and 135” from the definition for Aviation user class and adding in their place the words “under part 135”.

PART 170—ESTABLISHMENT AND DISCONTINUANCE CRITERIA FOR AIR TRAFFIC CONTROL SERVICES AND NAVIGATIONAL FACILITIES

33. The authority citation for part 170 continues to read as follows:

Authority: 49 U.S.C. 106(g), 40103-40107, 40113, 44502, 44701-44702, 44708-44709, 44719, 44721-44722, 46308.

§ 170.3 Definitions

34. Amend § 170.3 by removing the words “parts 121, 127, and 135” from the definition for Scheduled commercial service and adding in their place the words “parts 121 and 135”.

Issued in Washington, DC on April 19, 2001.
Donald P. Byrne,
Assistant Chief Counsel for Regulations.

[FR Doc. 01-10239 Filed 4-26-01; 8:45 am]

BILLING CODE 4910-13-M